DEPARTMENT OF ENERGY

Federal Energy Regulatory Commission

[Docket No. PR07-12-005]

Enterprise Texas Pipeline LLC; Notice of Compliance Filing

April 1, 2010.

Take notice that on March 30, 2010, Enterprise Texas Pipeline LLC (Enterprise Texas), filed its Statement of Operating Conditions in compliance with the March 2, 2010 Letter Order (March 2 Order) and pursuant to section 284.123(e) of the Commission's regulations. Enterprise Texas states that the revisions include modifications consistent with the March 2 Order.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern time on Thursday, April 8, 2010.

Kimberly D. Bose,
Secretary.

[FR Doc. 2010-8063 Filed 4-8-10; 8:45 am]

BILLING CODE 6717-01-P